DEPARTMENT OF COMMERCE

National Oceanic and Atmospheric Administration (NOAA)

Science Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the section on Matters to be Considered.

TIME and DATES: The meeting is scheduled for: Friday, September 30, from 3:15-5:15 p.m. Eastern Daylight Time.

ADDRESSES: Conference call. Public access is available at: NOAA, SSMC 3, Room 11836, 1315 East-West Highway, Silver Spring, Md.

Status: The meeting will be open to public participation with a 5-minute public comment period from 5:05-5:10 p.m. The SAB expects that public statements presented at its meetings will not be repetitive of previously submitted verbal or written statements. In general, each individual or group making a verbal presentation will be limited to a total time of one minute. Written comments should be received in the SAB Executive Director's Office by September 26, 2011 to provide sufficient time for SAB review. Written comments received by the SAB Executive Director after September 26, 2011, will be distributed to the SAB, but may not be reviewed prior to the meeting date.

SUPPLEMENTARY INFORMATION: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters To Be Considered: The meeting will include the following topics: (1) Final Report from the Climate and Environmental Information Services Working Groups' Climate Partnership Task Force (2) Review of new members and renewal of member terms for the Environmental Information Services Working Group (3) Terms of Reference and Proposed Members for a Satellite Task Force (4) NOAA Request for SAB Review of the NOAA Research Enterprise and (5) NOAA Request for the Ecosystem Sciences and Management Working Group to vet reviewers for the National Marine Fisheries Science Centers. For the latest agenda, please visit the SAB Web site at http://www.sab.noaa.gov.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov).

Dated: September 8, 2011.
Mark E. Brown,
Chief Financial Officer/Chief Administrative Officer, Office of Oceanic and Atmospheric Research, National Oceanic and Atmospheric Administration.

[FR Doc. 2011-23675 Filed 9-14-11; 8:45 am]

BILLING CODE 3510-KD-P